DEPARTMENT OF HEALTH AND HUMAN SERVICES

Meeting of the President's Council on Fitness, Sports, and Nutrition; Correction

AGENCY: Office of the President's Council on Fitness, Sports, and Nutrition, Office of the Assistant Secretary for Health, Office of the Secretary, Department of Health and Human Services.

ACTION: Notice; correction.

SUMMARY: The Department of Health and Human Services published a notice in the Federal Register of April 11, 2013 to announce a meeting of the President's Council on Fitness, Sports, and Nutrition that will be held on May 7, 2013, from 10:00 a.m. to 4:30 p.m., at the Department of Health and Human Services, 200 Independence Ave. SW., Room 800; Washington, DC 20201. The meeting location has changed.

FOR FURTHER INFORMATION CONTACT: Ms. Shellie Pfohl, Executive Director, President's Council on Fitness, Sports, and Nutrition. Phone: (240) 276-9866 or (240) 276-9567.

Correction

In the Federal Register of April 11, 2013, FR Doc. 2013-08494 on page 21606, in the second column, correct the ADDRESSES caption to read:

ADDRESSES: Department of Health and Human Services, 200 Independence Ave. SW., Great Hall, Washington, DC 20201.

Dated: April 18, 2013.
Shellie Y. Pfohl,
Executive Director, President's Council on Fitness, Sports, and Nutrition.

[FR Doc. 2013-09815 Filed 4-24-13; 8:45 am]

BILLING CODE 4150-35-P